DEPARTMENT OF TRANSPORTATION

Federal Aviation Administration

14 CFR Part 71

[Docket No. FAA-2004-16989; Airspace Docket NO. 04-ACE-7]

Modification of Class E Airspace; Hays, KS

AGENCY: Federal Aviation Administration (FAA), DOT.

ACTION: Direct final rule; request for comments.

SUMMARY: This action modifies Class E airspace areas at Hays, KS and their legal descriptions. The Hays Municipal Airport airport reference point (ARP) is revised, the Class E airspace surface area and Class E airspace area extending upward from 700 feet above the surface are each expanded and the extensions to these airspace areas are redefined. The effect of this rule is to amend the Hays, KS Class E airspace areas and their legal descriptions, to incorporate the correct Hays Regional Airport airport reference point and to comply with criteria of FAA Order 7400.2E, Procedures for Handling Airspace Matters.

DATES: This direct final rule is effective on 0901 UTC, June 10, 2004. Comments for inclusion in the Rules Docket must be received on or before April 13, 2004.

ADDRESSES: Send comments on this proposal to the Docket Management System, U.S. Department of Transportation, Room Plaza 401, 400 Seventh Street, SW., Washington, DC 20590-0001. You must identify the docket number FAA-2004-16989/Airspace Docket No. 043-ACE-7, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Kathy Randolph, Air Traffic Division, Airspace Branch, ACE-520C, DOT Regional Headquarters Building, Federal Aviation Administration, 901 Locust, Kansas City, MO 64106; telephone (816) 329-2525.

SUPPLEMENTARY INFORMATION: This amendment to 14 CFR 71 modifies the Hays, KS Class E airspace areas and their legal descriptions and brings them into compliance with FAA Order 7400.2E. The National Aeronautical Charting Office has redefined the Hays Municipal Airport ARP. The Hays Municipal Airport ARP is used in the legal descriptions of the Hays, KS Class E airspace surface area and Class E airspace area extending upward from 700 feet above the surface. The ARP is also used in the computation of the radius about the airport defining the Class E airspace areas. The radius of controlled airspace for each Hays, KS Class E airspace is expanded by .1 mile to comply with criteria set forth in FAA Order 7400.2E. An examination of controlled airspace at Hays, KS also revealed discrepancies in the legal descriptions of the extensions to the two Class E airspace areas. The north extension of each area is redefined by the Hays collocated very high frequency omni-directional radio range and tactical air navigational aid (VORTAC) 360° radial versus the current 005° radial. The south extension of each area is redefined by the Hays VORTAC 162° radial versus the current 169° radial. This action brings the legal descriptions of the Hays, KS Class E airspace areas into compliance with FAA Order 7400.2E. The areas will be depicted on appropriate aeronautical charts. Class E airspace areas designated as surface areas are published in Paragraph 6002 of FAA Order 7400.9L, Airspace Designations and Reporting Points, dated September 2, 2003, and effective September 16, 2003, which is incorporated by reference in 14 CFR 71.1 Class E airspace areas extending upward from 700 feet or more above the surface of the earth are published in paragraph 6005 of the same FAA Order. The Class E airspace designations listed in this document will be published subsequently in the Order.

The Direct Final Rule Procedure

The FAA anticipates that this regulation will not result in adverse or negative comment and, therefore, is issuing it as a direct final rule. Previous actions of this nature have not been controversial and have not resulted in adverse comments or objections. Unless a written adverse or negative comment or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2004-16989/Airspace Docket No. 04-ACE-7.” The postcard will be date/time stamped and returned to the commenter.

Agency Findings

The regulations adopted herein will not have a substantial direct effect on the States, on the relationship between the national government and the States, or on the distribution of power and responsibilities among the various levels of government. Therefore, it is determined that this final rule does not have federalism implications under Executive Order 13132.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects in 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR 1959-1963, Comp., p. 389.

§ 71.1 [Amended]

2. The incorporation by reference in 14 CFR 71.1 of Federal Aviation Administration Order 7400.9L, dated August 30, 2002, and effective September 16, 2002, is amended as follows:

Paragraph 6002 Class E Airspace Designated as Surface Areas.

* * * * *

ACE KS E2 Hays, KS

Hays Regional Airport, KS

(Lat. 38°50′32″ N., long. 99°16′23″ W.)

Hays VORTAC

(Lat. 38°50′52″ N., long. 99°16′36″ W.)

Within a 4.2-mile radius of Hays Regional Airport and within 1.8 miles each side of the Hays VORTAC 360° radial extending from the 4.2-mile radius of the airport to 6 miles north of the VORTAC and within 1.8 miles each side of the Hays VORTAC 160° radial extending from the 4.2-mile radius of the airport to 6 miles south of the VORTAC.

* * * * *

Paragraph 6005 Class E airspace areas extending upward from 700 feet or more above the surface of the earth.

* * * * *

ACE KS E5 Hays, KS

Hays Regional Airport, KS

(Lat. 38°50′32″ N., long. 99°16′23″ W.)

Hays VORTAC

(Lat. 38°50′52″ N., long. 99°16′36″ W.)

That airspace extending upward from 700 feet above the surface within a 6.7-mile radius of Hays Regional Airport and within 2.6 miles each side of the Hays VORTAC 360° radial extending from the 6.7-mile radius to 7.9 miles north of the airport and within 2.6 miles each side of the Hays VORTAC 162° radial extending from the 6.7-mile radius to 7.9 miles south of the airport.

* * * * *

Issued in Kansas City, MO, on February 13, 2004.
Paul J. Sheridan,
Acting Manager, Air Traffic Division, Central Region.

[FR Doc. 04-5026 Filed 3-4-04; 8:45 am]

BILLING CODE 4910-13-M